DEPARTMENT OF TRANSPORTATION

Federal Aviation Administration

14 CFR Part 39

[Docket No. 99-NM-336-AD; Amendment 39-11495; AD 99-27-14]

RIN 2120-AA64

Airworthiness Directives; Airbus Model A340-211, -212, -213, -311, -312, and -313 Series Airplanes; Correction

AGENCY: Federal Aviation Administration, DOT.

ACTION: Final rule; correction.

SUMMARY: This document corrects a typographical error that appeared in airworthiness directive (AD) 99-27-14 that was published in the Federal Register on January 6, 2000 (65 FR 697). The typographical error resulted in a reference to an incorrect AD number. This AD is applicable to all Airbus Model A340-211, -212, -213, -311, -312, and -313 series airplanes. This AD requires repetitive operational tests to ensure proper operation of the actuator of the secondary locks of the thrust reversers, and corrective actions, if necessary.

EFFECTIVE DATE: Effective January 21, 2000.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION: Airworthiness Directive (AD) 99-27-14, amendment 39-11495, applicable to all Airbus Model A340-211, -212, -213, -311, -312, and -313 series airplanes, was published in the Federal Register on January 6, 2000 (65 FR 697). That AD requires repetitive operational tests to ensure proper operation of the actuator of the secondary locks of the thrust reversers, and corrective actions, if necessary.

As published, AD 99-27-14 contains an erroneous reference to the AD number cited in the paragraph preceding the applicability of the AD. That paragraph incorrectly references AD 99-01-05, Amendment 39-10980. The correct reference is AD 99-01-15, Amendment 39-10980.

Since no other part of the regulatory information has been changed, the final rule is not being republished.

The effective date of this AD remains January 21, 2000.

§ 39.13 [Corrected]

On page 699, in the first column, the paragraph preceding the applicability of AD 99-27-14 is corrected to read as follows:

99-27-14 Airbus Industrie: Amendment 39-11495. Docket 99-NM-336-AD. Supersedes AD 99-01-15, Amendment 39-10980.

* * * * *

Issued in Renton, Washington, on February 25, 2000.
Donald L. Riggin,
Acting Manager, Transport Airplane Directorate, Aircraft Certification Service.

[FR Doc. 00-5010 Filed 3-1-00; 8:45 am]

BILLING CODE 4910-13-P